DEPARTMENT OF AGRICULTURE

Agricultural Research Service

Notice of Intent To Renew a Currently Approved Information Collection

AGENCY: Agricultural Research Service, USDA.

ACTION: Notice and request for comments.

SUMMARY: In accordance with the Paperwork Reduction Act and Office of Management and Budget (OMB) regulations, this notice announces the Agricultural Research Service's (ARS) intention to seek approval to collect information in support of research and related activities.

DATES: Comments on this notice must be received on or before July 30, 2018 to be assured of consideration.

ADDRESSES: Address all comments concerning this notice to Jill Lake, ARS Webmaster, 5601 Sunnyside Avenue, Beltsville, Maryland 20705.

FOR FURTHER INFORMATION CONTACT: Jill Lake, ARS Webmaster, jill.lake@ars.usda.gov.

SUPPLEMENTARY INFORMATION:

Title: Web Forms for Research Data, Models, Materials, and Publications as well as Study and Event Registration.

Type of Request: Extension and Revision of a Currently Approved Information Collection.

OMB Number: 0518-0032.

Expiration Date: December 31, 2018.

Abstract: Sections 1703 and 1705 of the Government Paperwork Elimination Act (GPEA), (Pub. L. 105-277) Title XVII, require agencies by October 21, 2003, to provide for the option of electronic submission of information by the public. To advance GPEA goals, online forms are needed to allow the public to request from ARS research data, models, materials, and publications and to register for scientific studies and events. For the convenience of the public, the forms itemize the information we need to provide a timely response. Information from forms will only be used by ARS for the purposes identified.

Estimate of Burden: Public reporting burden for this collection of information is estimated to average 3 minutes per response (range: 1-5 minutes).

Respondents: Agricultural researchers, students, teachers, business people, members of service organizations, community groups, other Federal and local government agencies, and the general public.

Estimated Number Respondents: 8,750. This is an increase of 3,750 from the 5,000 estimated respondents in the previous Approved Information Collection due to more actual annual respondents than originally estimated in 2015 when fewer software models were available for download. As of May 2018, 147 software models were available for download through the ARS website https://www.ars.usda.gov/research/software/.

Estimated Number of Responses per Respondent: 1.

Estimated Total Annual Burden on Respondents: 437.5 hours.

Copies of forms used in this information collection can be obtained from Jill Lake, ARS Webmaster, jill.lake@ars.usda.gov.

The information collection extension requested by ARS is for a period of 3 years. Comments: Are invited on (a) whether the proposed collection of information is necessary for the proper performance of the functions of the Agency, including whether the information will have practical utility; (b) the accuracy of the Agency's estimate of the burden of the proposed collection of information, including the validity of the methodology and assumptions used; (c) ways to enhance the quality, utility, and clarity of the information to be collected; and (d) ways to minimize the burden of the collection of information on those who are to respond, including through use of appropriate automated, electronic, mechanical, or other technological collection techniques or other forms of information technology. All responses to this notice will be summarized and included in the request for OMB approval. All comments will also become a matter of public record.

Dated: May 17, 2018.
Chavonda Jacobs-Young,
Administrator, Agricultural Research Service.

[FR Doc. 2018-11598 Filed 5-30-18; 8:45 am]

BILLING CODE 3410-03-P